DEPARTMENT OF COMMERCE

National Oceanic and Atmospheric Administration

50 CFR Part 635

[Docket No. 000629197-1282-02; I.D. 032900A]

RIN 0648-AN06

Atlantic Highly Migratory Species; Monitoring of Recreational Landings

Correction

In proposed rule document 01-31662 beginning on page 66386 in the issue of Wednesday, December 26, 2001, make the following correction:

On page 66386, in the first column, under the heading DATES:, in the third line, “February 25, 2002” should read “February 19, 2002”.

[FR Doc. C1-31662 Filed 1-3-02; 8:45 am]

BILLING CODE 1505-01-D

SECURITIES AND EXCHANGE COMMISSION

[Securities Exchange Act of 1934, Release No. 45179/December 20, 2001]

Securities Industry Association 1401 Eye Street, NW., Washington DC 20005-2225; Order Extending Broker-Dealer Exemption From Sending Financial Information to Customers

Correction

In notice document 01-31918 beginning on page 67341 in the issue of Friday, December 28, 2001 make the following correction:

On page 67341, in the second column, the subject line is corrected to read as set forth above.

[FR Doc. C1-31918 Filed 1-3-02; 8:45 am]

BILLING CODE 1505-01-D

DEPARTMENT OF TRANSPORTATION

Office of the Secretary of Transportation

49 CFR Part 1

[Docket No. OST-1999-6189]

RIN 2105-ZZ04

Organization and Delegation of Powers and Duties to the under Secretary of Transportation for Security, Transportation Security Administration

Correction

In rule document 01-32021 beginning on page 67117 in the issue of Friday, December 28, 2001, make the following corrections:

§1.2 [Corrected]

1. On page 67118, in the first column, in § 1.2, in amendatory instruction 2, in the first line “new paragraph (1)” should read “new paragraph (l).”

2. On the same page, in the same column, in the same section, in the amendatory text “(1) The Under Secretary of Transportation for Security.” should read “(l) The Under Secretary of Transportation for Security.”

[FR Doc. C1-32021 Filed 1-3-02; 8:45 am]

BILLING CODE 1505-01-D